INTERNATIONAL TRADE COMMISSION

[USITC SE-19-022]

Sunshine Act Meetings

Agency Holding the Meeting: United States International Trade Commission.

TIME AND DATE: June 13, 2019 at 9:30 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-623 and 731-TA-1449 (Preliminary) (Vertical Metal File Cabinets from China). The Commission is currently scheduled to complete and file its determinations on June 14, 2019; views of the Commission are currently scheduled to be completed and filed on June 21, 2019.

5. Vote on Inv. No. 731-TA-990 (Third Review) (Non-Malleable Cast Iron Pipe Fittings from China). The Commission is currently scheduled to complete and file its determination and views of the Commission by August 30, 2019.

6. Outstanding action jackets: None.

In accordance with Commission policy, subject matter listed above, not disposed of at the scheduled meeting, may be carried over to the agenda of the following meeting.

By order of the Commission.
Issued: June 4, 2019.
William Bishop,
Supervisory Hearings and Information Officer.

[FR Doc. 2019-12103 Filed 6-5-19; 11:15 am]

BILLING CODE 7020-02-P